DEPARTMENT OF COMMERCE

National Oceanic and Atmospheric Administration

DEPARTMENT OF THE INTERIOR

Fish and Wildlife Service

50 CFR Part 404

[Docket No. 060824225-6225-01]

RIN 0648-AU82

Northwestern Hawaiian Islands Marine National Monument

Correction

In rule document 06-7235 beginning on page 51134 in the issue of Tuesday, August 29, 2006, make the following correction:

§ 404.4 [Corrected]

On page 51137, in the first column, in § 404.4(b)(1), in the second line, “nwhi.notifications@commat;noaa.gov” should read “nwhi.notifications@noaa.gov”.

[FR Doc. C6-7235 Filed 9-6-06; 8:45 am]

BILLING CODE 1505-01-D